NUCLEAR REGULATORY COMMISSION

[Docket No. NRC-2012-0081]

Agency Information Collection Activities: Proposed Collection; Comment Request

AGENCY: Nuclear Regulatory Commission.

ACTION: Notice of pending NRC action to submit an information collection request to the Office of Management and Budget (OMB) and solicitation of public comment.

SUMMARY: The U.S. Nuclear Regulatory Commission (NRC) invites public comment about our intention to request the OMB's approval for renewal of an existing information collection that is summarized below. We are required to publish this notice in the Federal Register under the provisions of the Paperwork Reduction Act of 1995 (44 U.S.C. Chapter 35).

Information pertaining to the requirement to be submitted:

1. The title of the information collection: Request for Information Pursuant to Title 10 of the Code of Federal Regulations (10 CFR) 50.54(f), Regarding Recommendations 2.1, 2.3 and 9.3, of the Near-Term Task Force Review of Insights from the Fukushima Dai-ichi Event.

2. Current OMB approval number: 3150-0211.

3. How often the collection is required: Once.

4. Who is required or asked to report: 104 power reactor licensees, 2 reactors in the process of resuming licensing, and 2 Combined License applicants (with 2 units each).

5. The number of annual respondents: 110.

6. The number of hours needed annually to complete the requirement or request: 369,960 hours.

7. Abstract: Following events at the Fukushima Dai-ichi nuclear power plant resulting from the March 11, 2011, earthquake and subsequent tsunami, and in response to requirements contained in Section 402 of the Consolidated Appropriations Act (Pub. L. 112-074), the NRC sought an expedited clearance from OMB to allow the collection of information from power reactor licensees pursuant to 10 CFR 50.54(f). OMB approved this clearance, which will expire on September 30, 2012. The NRC is currently preparing to resubmit the collection to OMB under normal clearance processes. The information requested includes seismic and flooding hazard reevaluations to determine if further regulatory action is necessary, walkdowns to confirm compliance with the current licensing basis and provide input to the hazard reevaluations, and analysis of the Emergency Preparedness capability with respect to staffing and communication ability during a prolonged multiunit event.

Submit, by June 29, 2012, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

The public may examine and have copied for a fee publicly available documents, including the draft supporting statement, at the NRC's Public Document Room, Room O-1F21, One White Flint North, 11555 Rockville Pike, Rockville, Maryland 20852.

The OMB clearance requests are available at the NRC's Web site: http://www.nrc.gov/public-involve/doc-comment/omb/. The document will be available on the NRC home page site for 60 days after the signature date of this notice. Comments submitted in writing or in electronic form will be made available for public inspection. Because your comments will not be edited to remove any identifying or contact information, the NRC cautions you against including any information in your submission that you do not want to be publicly disclosed. Comments submitted should reference Docket No. NRC-2012-0081.

You may submit your comments by any of the following methods: Electronic comments: Go to http://www.regulations.gov and search for Docket No. NRC-2012-0081. Mail comments to NRC Clearance Officer, Tremaine Donnell (T-5 F53), U.S. Nuclear Regulatory Commission, Washington, DC 20555-0001. Questions about the information collection requirements may be directed to the NRC Clearance Officer, Tremaine Donnell (T-5 F53), U.S. Nuclear Regulatory Commission, Washington, DC 20555-0001, by telephone at 301-415-6258, or by email to INFOCOLLECTS.Resource@nrc.gov.

Dated at Rockville, Maryland, this 24th day of April 2012.
For the Nuclear Regulatory Commission.
Tremaine Donnell,
NRC Clearance Officer, Office of Information Services.

[FR Doc. 2012-10276 Filed 4-27-12; 8:45 am]

BILLING CODE 7590-01-P